DEPARTMENT OF HEALTH AND HUMAN SERVICES

Food and Drug Administration

Advisory Committees; Filing of Annual Reports

AGENCY: Food and Drug Administration, HHS.

ACTION: Notice.

SUMMARY: The Food and Drug Administration (FDA) is announcing that, as required by the Federal Advisory Committee Act, the agency has filed with the Library of Congress the annual reports of those FDA advisory committees that held closed meetings during fiscal year 2006.

ADDRESSES: Copies are available from the Division of Dockets Management (HFA-305), Food and Drug Administration, 5630 Fishers Lane, rm. 1061, Rockville, MD 20852, 301-827-6860.

FOR FURTHER INFORMATION CONTACT: Theresa L. Green, Advisory Committee Oversight and Management Staff (HF-4), Food and Drug Administration, 5600 Fishers Lane, Rockville, MD 20857, 301-827-1220.

SUPPLEMENTARY INFORMATION: Under section 10(d) of the Federal Advisory Committee Act (5 U.S.C. app. 1) and 21 CFR 14.60(d), FDA has filed with the Library of Congress the annual reports for the following FDA advisory committees that held closed meetings during the period October 1, 2005 through September 30, 2006.

Center for Biologics Evaluation and Research:

Allergenic Products Advisory Committee

Blood Products Advisory Committee

Cellular, Tissue, and Gene Therapies Advisory Committee

Vaccines and Related Biological Products Advisory Committee

Center for Drug Evaluation and Research:

Nonprescription Drugs Advisory Committee

Anesthetic and Life Support Drugs Advisory Committee

Center for Devices and Radiological Health:

Medical Devices Advisory Committee (consisting of reports for General and Plastic Surgery Devices Panel, Obstetrics and Gynecology Devices Panel, Ophthalmic Devices Panel, Orthopaedic and Rehabilitation Devices Panel, and Radiological Devices Panel)

National Center for Toxicological Research:

Science Advisory Board to the National Center for Toxicological Research

Annual reports are available for public inspections between 9 a.m. and 4 p.m., Monday through Friday, at the following locations:

1. The Library of Congress, Madison Bldg., Newspaper and Current Periodical Reading Room, 101 Independence Ave. SE., rm. 133, Washington, DC; and

2. The Division of Dockets Management (HFA-305), Food and Drug Administration, 5630 Fishers Lane, rm. 1061, Rockville, MD 20852.

Dated: December 22, 2006.
Randall W. Lutter,
Associate Commissioner for Policy and Planning.

[FR Doc. E6-22450 Filed 12-29-06; 8:45 am]

BILLING CODE 4160-01-S